DEPARTMENT OF DEFENSE

Office of the Secretary of Defense

Meeting of the Board of Regents of the Uniformed Services University of the Health Sciences

AGENCY: Uniformed Services University of the Health Sciences, DoD.

ACTION: Quarterly meeting notice.

SUMMARY: The actions that will take place include the approval of the minutes from the Board of Regents meeting on November 7, 2005; acceptance of departmental reports; and the awarding of graduate degrees in the biomedical sciences from the Uniformed Services University (USU) School of Medicine. The President, USU; Dean, USU School of Medicine; Dean, USU Graduate School of Nursing; and Director, Armed Forces Radiobiology Research Institute will also present reports. These actions are necessary in order to remain an accredited medical school and to pursue our mission, which is to provide trained medical personnel to our uniformed services.

DATES: February 7, 2006, 8 a.m. to 12 p.m.

ADDRESSES: Uniformed Services University of the Health Sciences, Board of Regents Conference Room (D3001), 4301 Jones Bridge Road, Bethesda, MD 20814-4799.

FOR FURTHER INFORMATION CONTACT: CAPT Jane E. Mead, NC, USN, Executive Secretary, Board of Regents, 301.295.0962.

Dated: January 5, 2006.
L.M. Bynum,
Alternate OSD Federal Register Liaison Officer.

[FR Doc. 06-217 Filed 1-5-06; 2:59 pm]

BILLING CODE 5001-06-M